DEPARTMENT OF THE INTERIOR

Bureau of Indian Affairs

Notice of Service Area Designation

AGENCY: Bureau of Indian Affairs, Interior.

ACTION: Notice.

SUMMARY: This notice is published to exercise the authority delegated by the Secretary of the Interior to the Assistant Secretary—Indian Affairs to provide notice, under the regulations, of the service area designation for the Pit River Tribe that is recognized and eligible to receive services from the Bureau of Indian Affairs (BIA).

DATES: This service area designation is effective as of March 28, 2013.

FOR FURTHER INFORMATION CONTACT: Sue Settles, Office of Indian Services, Bureau of Indian Affairs, Telephone (202) 208-5113, email address: Sue.Settles@bia.gov.

SUPPLEMENTARY INFORMATION: In accordance with 25 CFR part 20, Financial Assistance and Social Services Programs, the Assistant Secretary—Indian Affairs designates the following locale as a service area appropriate for the extension of BIA financial assistance and/or social services. The part 20 regulations have full force and effect when extending the BIA financial assistance and/or social services into the service area location. Without officially designated service areas, such services are provided only to Indian people who live within the reservation boundaries. Under 25 CFR 20.201, the Pit River Tribe is now authorized to extend financial assistance and social services to eligible tribal members (and their family members who are Indian) who reside outside the boundaries of the federally recognized tribe's reservation within the areas designated below:

Tribe: Pit River Tribe.

Service Area Location: The 100 square mile area of Pit River Tribe jurisdiction, as stated in the Pit River Tribe constitution, in the counties of Shasta, Siskiyou, Modoc, and Lassen in the State of California.

Dated: March 20, 2013.
Kevin K. Washburn,
Assistant Secretary—Indian Affairs.

[FR Doc. 2013-07207 Filed 3-27-13; 8:45 am]

BILLING CODE 4310-4J-P